DEPARTMENT OF THE TREASURY

Submission for OMB Review; Comment Request

July 7, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before August 13, 2009 to be assured of consideration.

Internal Revenue Service (IRS)

OMB Number: 1545-2109.

Type of Review: Extension.

Title: Form 13925, Notice of Election of an Agreement to Special Lien Under Internal Revenue Code Section 6324A and Regulations.

Description: Under IRC section 6166, an estate may elect to pay the estate tax in installments over 14 years if certain conditions are met. If the IRS determines that the government's interest in collecting estate tax is sufficiently at risk, it may require the estate provide a bond. Alternatively, the executor may elect to provide a lien in lieu of bond. Under section 6324A(c) and the regulations there under (OMB 1545-0757), to make this election the executor must submit a lien agreement to the IRS. Form 13925 is a form lien agreement that executors may use for this purpose.

Respondents: Businesses or other for-profits.

Estimated Total Burden Hours: 500 hours.

OMB Number: 1545-1820.

Type of Review: Extension.

Title: Revenue Procedure 2003-33, Section 9100 Relief for 338 Elections

Description: Pursuant to Sec. 301.9100-3 of the Procedure and Administration Regulations, this procedure grants certain taxpayers an extension of time to file an election described in Sec. 338(a) or Sec. 338(h)(10) of the Internal Revenue Code to treat the purchase of the stock of a corporation as an asset acquisition.

Respondents: Businesses or other for-profits.

Estimated Total Burden Hours: 300 hours.

OMB Number: 1545-2132.

Type of Review: Extension.

Form: 8933.

Title: Carbon Dioxide Sequestration Credit.

Description: Form 8933 will provide a standardized format to claim this credit to an eligible person that captures, after October 3, 2008, qualified carbon dioxide at a qualified facility and physically or contractually ensures the disposal of or the use as a tertiary injectant of the qualified carbon dioxide.

Respondents: Businesses or other for-profits.

Estimated Total Burden Hours: 215 hours.

OMB Number: 1545-1984.

Type of Review: Revision.

Form: 8903.

Title: Domestic Production Activities Deduction.

Description: Taxpayers will use the new Form 8903 and related instructions to calculate the domestic production activities deduction.

Respondents: Businesses or other for-profits.

Estimated Total Burden Hours: 6,450,000 hours.

OMB Number: 1545-1541.

Type of Review: Extension.

Title: Revenue Procedure 97-27, Changes in Methods of Accounting

Description: The information requested in sections 6, 8, and 13 of Revenue Procedure 97-27 is required in order for the Commissioner to determine whether the taxpayer is properly requesting to change its method of accounting and the terms and condition of that change.

Respondents: Businesses or other for-profits.

Estimated Total Burden Hours: 9,083 hours.

OMB Number: 1545-1932.

Type of Review: Extension.

Title: REG-158138-04 (Final) Information Return by Donees Relating to Qualified Intellectual Property Contributions.

Description: These proposed and temporary regulations provide guidance for filing information returns by donees relating to qualified intellectual property contributions. The regulations affect donees receiving qualified intellectual property contributions after June 3, 2004.

Respondents: Not-for-profit institutions.

Estimated Total Burden Hours: 2 hours.

OMB Number: 1545-1982.

Type of Review: Extension.

Form: 8906.

Title: Distilled Spirits Credit.

Description: Form 8906, Distilled Spirits Credit, was developed to carry out the provisions of IRC section 5011(a). This section allows eligible wholesalers and persons subject to IRC section 5055 an income tax credit for the average cost of carrying excise tax on bottled distilled spirits. The new form provides a means for the eligible taxpayer to compute the amount of credit.

Respondents: Businesses or other for-profits.

Estimated Total Burden Hours: 558 hours.

OMB Number: 1545-1970.

Type of Review: Extension.

Form: 13750.

Title: Election to Participate in Announcement 2005-80 Settlement Initiative.

Description: Announcement 2005-80 provides a settlement initiative under which taxpayers and the Service may resolve certain abusive tax transactions. Pursuant to Announcement 2005-80, Form 13750 is the ONLY specified manner in which taxpayers may elect to participate in the settlement initiative.

Respondents: Businesses or other for-profits.

Estimated Total Burden Hours: 2,500 hours.

OMB Number: 1545-1049.

Type of Review: Extension.

Title: IA-7-88 (Final) Excise Tax Relating to Gain or Other Income Realized by Any Person on Receipt of Greenmail.

Description: The final regulations provide rules relating to the manner and method of reporting and paying the nondeductible 50 percent tax imposed by section 5881 of the Internal Revenue Code with respect to the receipt of greenmail.

Respondents: Businesses or other for-profits.

Estimated Total Burden Hours: 2 hours.

OMB Number: 1545-1504.

Type of Review: Extension.

Form: 911.

Title: Application for Taxpayer Assistance Order (ATAO).

Description: This form is used by taxpayers to apply for relief from a significant hardship which may have already occurred or is about to occur if the IRS takes or fails to take certain actions. This form is submitted to the IRS Taxpayer Advocate Office in the state or city where the taxpayer lives.

Respondents: Individuals or Households.

Estimated Total Burden Hours: 46,500 hours.

OMB Number: 1545-0233.

Type of Review: Extension.

Form: 7004.

Title: Application for Automatic Extension of Time to File Certain Business Income Tax, Information, and Other Returns.

Description: Form 7004 is used by corporations and certain non-profit institutions to request an automatic 6-month extension of time to file their income tax returns. The information is needed by IRS to determine whether Form 7004 was timely filed so as not to impose a late filing penalty in error and also to insure that the proper amount of tax was computed and deposited.

Respondents: Businesses or other for-profits.

Estimated Total Burden Hours: 19,216,744 hours.

OMB Number: 1545-1480.

Type of Review: Extension.

Title: REG-107047-00 (Final), Hedging Transactions.

Description: The information is required by the IRS to aid it in administering the law and to prevent manipulation. The information will be used to verify that a taxpayer is properly reporting its business hedging transactions.

Respondents: Businesses or other for-profits.

Estimated Total Burden Hours: 171,050 hours.

OMB Number: 1545-1994.

Type of Review: Extension.

Title: Notice 2008-36 (Previously Notice 2006-28), Energy Efficient Home Credit; Manufactured Homes.

Description: This notice supersedes Notice 2006-28 by substantially republishing the guidance contained in that publication. This notice clarifies the meaning of the terms equivalent rating network and eligible contractor, and permits calculation procedures other than those identified in Notice 2006-28 to be used to calculate energy consumption. Finally, this notice clarifies the process for removing software from the list of approved software and reflects the extension of the tax credit through December 31, 2008. Notice 2006-28, as updated, provided guidance regarding the calculation of heating and cooling energy consumption for purposes of determining the eligibility of a manufactured home for the New Energy Efficient Home Credit under Internal Revenue Code § 45L. Notice 2006-28 also provided guidance relating to the public list of software programs that may be used to calculate energy consumption. Guidance relating to dwelling units other than manufactured homes is provided in Notice 2008-35.

Respondents: Individuals or Households.

Estimated Total Burden Hours: 60 hours.

OMB Number: 1545-1099.

Type of Review: Extension.

Form: 8811.

Title: Information Return for Real Estate Mortgage Investment Conduits (REMICs) and Issuers of Collateralized Debt Obligations.

Description: Form 8811 is used to collect the name, address, and phone number of a representative of a REMIC who can provide brokers with the correct income amounts that the broker's clients must report on their income tax returns. The form allows the IRS to provide the REMIC industry the information necessary to issue correct information returns to investors.

Respondents: Businesses or other for-profits.

Estimated Total Burden Hours: 4,380 hours.

OMB Number: 1545-1344.

Type of Review: Extension.

Title: CO-30-92 (Final) Consolidated Returns—Stock Basis and Excess Loss Accounts, Earnings and Profits, Absorption of Deductions and Losses, Joining and Leaving Consolidated Groups, Worthless.

Description: The reporting requirements affect consolidated taxpayers who will be making elections (if made) to treat certain loss carryovers as expiring and an election (if made) allocating items between returns. The information will facilitate enforcement of consolidated return regulations.

Respondents: Businesses or other for-profits.

Estimated Total Burden Hours: 18,600 hours.

OMB Number: 1545-0770.

Type of Review: Extension.

Title: FI-182-78 (NPRM) Transfers of Securities Under Certain Agreements.

Description: Section 1058 of the Internal Revenue Code provides tax-free treatment for transfers of securities pursuant to a securities lending agreement. The agreement must be in writing and is used by the taxpayer, in a tax audit situation, to justify no recognition treatment of gain or loss on the exchange of the securities.

Respondents: Businesses or other for-profits.

Estimated Total Burden Hours: 9,781 hours.

OMB Number: 1545-1537.

Type of Review: Extension.

Title: REG-253578-96 Final Regulations for Health Coverage Portability for Group Health Plans and Group Health Insurance Issuers under HIPPA Titles I & IV.

Description: The regulations provide guidance for group health plans and the employers maintaining them regarding requirements imposed on plans relating to preexisting condition exclusions, discrimination based on health status, and access to coverage.

Respondents: Businesses or other for-profits.

Estimated Total Burden Hours: 262,289 hours.

OMB Number: 1545-0022.

Type of Review: Extension.

Form: 712.

Title: Life Insurance Statement.

Description: Form 712 is used to establish the value of life insurance policies for estate and gift tax purposes. The tax is based on the value of these policies. The form is completed by life insurance companies.

Respondents: Businesses or other for-profits.

Estimated Total Burden Hours: 1,120,200 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-16670 Filed 7-13-09; 8:45 am]

BILLING CODE 4830-01-P